DEPARTMENT OF COMMERCE

National Oceanic and Atmospheric Administration

Agency Information Collection Activities; Submission to the Office of Management and Budget (OMB) for Review and Approval; Comment Request; NOAA Fisheries Greater Atlantic Region Vessel Identification Requirements

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 23, 2020, during a 60-day comment period. This notice allows for an additional 30 days for public comments.

Agency: NOAA.

Title: NOAA Fisheries Greater Atlantic Region Vessel Identification Requirements.

OMB Control Number: 0648-0350.

Form Number(s): None.

Type of Request: Regular submission (extension of a current information collection).

Number of Respondents: 3,893.

Average Hours per Response: 45 minutes.

Total Annual Burden Hours: 2,920.

Needs and Uses: This request is for extension of a current information collection.

Regulations at 50 CFR 648.8 and § 697.8 require that owners of vessels over 25 ft (7.6 m) in registered length that have Federal permits to fish in the Greater Atlantic Region display the vessel's name and official number. The name and number must be of a specific size at specified locations: the vessel name must be affixed to the port and starboard sides of the bow and, if possible, on its stern. The official number must be displayed on the port and starboard sides of the deckhouse or hull, and on an appropriate weather deck so as to be clearly visible from enforcement vessels and aircraft. The display of the identifying characters aids in fishery law enforcement.

Affected Public: Individuals or households and business or other for-profit organizations.

Frequency: Once per year.

Respondent's Obligation: Mandatory.

Legal Authority: 50 CFR 648.8.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0350.

Sheleen Dumas,
Department PRA Clearance Officer, Office of the Chief Information Officer, Commerce Department.

[FR Doc. 2020-26462 Filed 11-30-20; 8:45 am]

BILLING CODE 3510-22-P